DEPARTMENT OF ENERGY

Federal Energy Regulatory Commission

Combined Notice of Filings

Take notice that the Commission has received the following Natural Gas Pipeline Rate and Refund Report filings:

Filings Instituting Proceedings

Docket Numbers: PR22-14-000.

Applicants: DTE Gas Company.

Description: Submits tariff filing per 284.123(b),(e)/: Revisions to Operating Conditions for Interstate Transportation Service to be effective 1/1/2022.

Filed Date: 12/21/2021.

Accession Number: 20211221-5093.

Comments/Protests Due: 5 p.m. ET 1/11/22.

Docket Numbers: RP22-432-000.

Applicants: Great Basin Gas Transmission Company.

Description: § 4(d) Rate Filing: Gas Quality Specifications to be effective 2/1/2022.

Filed Date: 12/21/21.

Accession Number: 20211221-5094.

Comment Date: 5 p.m. ET 1/3/22.

Docket Numbers: RP22-433-000.

Applicants: Range Resources—Appalachia, LLC, and Columbia Gulf Transmission, LLC v. Texas Eastern Transmission, LP.

Description: Joint Complaint of Range Resources—Appalachia, LLC, and Columbia Gulf Transmission, LLC.

Filed Date: 12/21/21.

Accession Number: 20211221-5128.

Comment Date: 5 p.m. ET 1/3/22.

Docket Numbers: RP22-434-000.

Applicants: Transcontinental Gas Pipe Line Company, LLC.

Description: § 4(d) Rate Filing: Negotiated Rates—Leidy South—Interim Svc Termin—Seneca Resources to be effective 12/19/2021.

Filed Date: 12/21/21.

Accession Number: 20211221-5136.

Comment Date: 5 p.m. ET 1/3/22.

Docket Numbers: RP22-435-000.

Applicants: Range Resources—Appalachia, LLC v. Texas Eastern Transmission, LP.

Description: Complaint of Range Resources—Appalachia, LLC v. Texas Eastern Transmission, LP requesting action to require Texas Eastern to modify or upgrade its system operations et. al.

Filed Date: 12/21/21.

Accession Number: 20211221-5269.

Comment Date: 5 p.m. ET 1/3/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

Dated: December 22, 2021.
Kimberly D. Bose,
Secretary.

[FR Doc. 2021-28291 Filed 12-28-21; 8:45 am]

BILLING CODE 6717-01-P793